DEPARTMENT OF COMMERCE

United States Patent and Trademark Office

[Docket No. PTO-C-2009-0046]

Performance Review Board (PRB)

AGENCY: United States Patent and Trademark Office.

ACTION: Notice.

SUMMARY: In conformance with the Civil Service Reform Act of 1978, 5 U.S.C. 4314(c)(4), the United States Patent and Trademark Office announces the appointment of persons to serve as members of its Performance Review Board.

ADDRESSES: Director, Human Capital Management, Office of Human Resources, United States Patent and Trademark Office, P.O. Box 1450, Alexandria, VA 22313-1450.

FOR FURTHER INFORMATION CONTACT: Karen Karlinchak at (571) 272-6200.

SUPPLEMENTARY INFORMATION: The membership of the United States Patent and Trademark Office Performance Review Board is as follows:

Sharon Barner, Chair, Deputy Under Secretary of Commerce for Intellectual Property and Deputy Director of the United States Patent and Trademark Office.

Stephen S. Smith, Vice Chair, Chief Administrative Officer, United States Patent and Trademark Office.

Robert K. Stoll, Commissioner for Patents, United States Patent and Trademark Office.

Lynne G. Beresford, Commissioner for Trademarks, United States Patent and Trademark Office.

Barry K. Hudson, Chief Financial Officer, United States Patent and Trademark Office.

Arti K. Rai, Administrator for External Affairs, United States Patent and Trademark Office.

John B. Owens II, Chief Information Officer, United States Patent and Trademark Office.

James A. Toupin, General Counsel, United States Patent and Trademark Office.

Alternates

Lois E. Boland, Director, Office of Intellectual Property Policy and Enforcement, United States Patent and Trademark Office.

Deborah S. Cohn, Deputy Commissioner for Trademark Operations, United States Patent and Trademark Office.

Margaret A. Focarino, Deputy Commissioner for Patent Operations, United States Patent and Trademark Office.

Dated: October 19, 2009.
David J. Kappos,
Under Secretary of Commerce for Intellectual Property and Director of the United States Patent and Trademark Office.

[FR Doc. E9-25722 Filed 10-23-09; 8:45 am]

BILLING CODE 3510-16-P